FEDERAL HOUSING FINANCE AGENCY

[No. 2016-N-11]

Proposed Collection; Comment Request

AGENCY: Federal Housing Finance Agency.

ACTION: 60-day notice of submission of information collection for approval from Office of Management and Budget.

SUMMARY: In accordance with the requirements of the Paperwork Reduction Act of 1995 (PRA), the Federal Housing Finance Agency (FHFA or the Agency) is seeking public comments concerning a new information collection known as “Contractor Workforce Inclusion Good Faith Efforts.” This information collection has not yet been assigned a control number by the Office of Management and Budget (OMB). FHFA intends to submit the information collection to OMB for review and approval of a three-year control number.

DATES: Interested persons may submit comments on or before January 17, 2017.

ADDRESSES: Submit comments to FHFA, identified by “Proposed Collection; Comment Request: `Contractor Workforce Inclusion Good Faith Efforts, (No. 2016-N-11)' ” by any of the following methods:

• Agency Web site: www.fhfa.gov/open-for-comment-or-input.

• Federal eRulemaking Portal: http://www.regulations.gov. Follow the instructions for submitting comments. If you submit your comment to the Federal eRulemaking Portal, please also send it by email to FHFA at RegComments@fhfa.gov to ensure timely receipt by the agency.

• Mail/Hand Delivery: Federal Housing Finance Agency, Eighth Floor, 400 Seventh Street SW., Washington, DC 20219, ATTENTION: Proposed Collection; Comment Request: “Contractor Workforce Inclusion Good Faith Efforts, (No. 2016-N-11)”.

We will post all public comments we receive without change, including any personal information you provide, such as your name and address, email address, and telephone number, on the FHFA Web site at http://www.fhfa.gov. In addition, copies of all comments received will be available for examination by the public on business days between the hours of 10 a.m. and 3 p.m., at the Federal Housing Finance Agency, Eighth Floor, 400 Seventh Street SW., Washington, DC 20219. To make an appointment to inspect comments, please call the Office of General Counsel at (202) 649-3804.

FOR FURTHER INFORMATION CONTACT: Eric Howard, Diversity and Inclusion Principal Advisor, Office of Minority and Women Inclusion, Eric.Howard@fhfa.gov, (202) 649-3009; Karen Lambert, Associate General Counsel, Karen.Lambert@fhfa.gov, (202) 649-3094; or Eric Raudenbush, Associate General Counsel, Eric.Raudenbush@fhfa.gov, (202) 649-3084 (these are not toll-free numbers); Federal Housing Finance Agency, 400 Seventh Street SW., Washington, DC 20219. The Telecommunications Device for the Hearing Impaired is (800) 877-8339.

SUPPLEMENTARY INFORMATION:

A. Need for and Use of the Information Collection

Section 342(a)(1)(A) of the Dodd-Frank Wall Street Reform and Consumer Protection Act of 2010 (the Dodd-Frank Act) requires FHFA and certain other Federal agencies each to establish an Office of Minority and Women Inclusion (OMWI) responsible for all matters of the agency relating to diversity in management, employment, and business activities.¹ Section 342(c)(1) requires the OMWI Director at each agency to develop and implement standards and procedures to ensure, to the maximum extent possible, the fair inclusion and utilization of minorities, women, and minority- and women-owned businesses in all business and activities of the agency at all levels, including procurement, insurance, and all types of contracts. Section 342(c)(2) requires that the OMWI Director include in the agency's procedures for evaluating contract proposals and hiring service providers a component that gives consideration to the diversity of an applicant, to the extent consistent with applicable laws. That statutory provision also requires that each agency's procedures include a written statement that a contractor shall ensure, to the maximum extent possible, the fair inclusion of women and minorities in the workforce of the contractor and, as applicable, subcontractors.

¹ 12 U.S.C. 5452.

Further, section 342(c)(3)(A) of the Dodd-Frank Act requires that each agency's standards and procedures include a procedure for determining whether an agency contractor or subcontractor has failed to make a good faith effort to include minorities and women in its workforce. If the OMWI Director determines that a contractor or subcontractor has failed to make such a good faith effort, section 342(c)(3)(B)(i) provides that the OMWI Director shall recommend to the agency administrator that the contract be terminated. Section 342(c)(3)(B)(ii) provides that, upon receipt of such a recommendation, the agency administrator may either terminate the contract, make a referral to the Office of Federal Contract Compliance Programs (OFCCP) of the Department of Labor, or take other appropriate action.

As a means of implementing the requirements of section 342(c) of the Dodd-Frank Act, FHFA developed a Minority and Women Inclusion Clause (MWI Clause) that it now includes in all Agency contracts with a dollar value greater than the “simplified acquisition threshold” (currently, $150,000) established in the Federal Acquisition Regulation (FAR).² The MWI Clause requires a contractor to confirm its commitment to equal opportunity in employment and contracting, and to implement that commitment by ensuring, to the maximum extent possible consistent with applicable law, the fair inclusion of minorities and women in its workforce. The MWI Clause also requires that a contractor include the substance of the MWI Clause in all subcontracts with a dollar value greater than $150,000 awarded under the contract. (Hereinafter subcontractors that are subject to the MWI Clause are referred to as “covered” subcontractors.)

² See FAR 2.101. The FAR appears at 48 CFR chapter 1.

Finally, the MWI Clause requires a contractor to provide, when requested by FHFA, documentation demonstrating that it and any covered subcontractor has made a good faith effort to ensure the fair inclusion of minorities and women in its workforce. The MWI Clause provides that such documentation may include, but is not limited to: (1) The contractor's total number of employees, and the number of minority and women employees, by race, ethnicity, and gender (e.g., an EEO-1 Employer Information Report (Form EEO-1)); (2) a list of the subcontracts the contractor awarded including the dollar amount, date of the award, and the ownership status of the subcontractor by race, ethnicity, and/or gender; (3) information similar to that required under item 1 above for each subcontractor; and (4) the contractor's plan to ensure that minorities and women have appropriate opportunities to enter and advance within its workforce, including outreach efforts (hereinafter, a “workforce inclusion plan”). A request for documentation by FHFA pursuant to this provision of the MWI Clause would constitute a “collection of information” within the meaning of the PRA.

While FHFA has included the MWI Clause in all contracts with a dollar value greater than $150,000 consummated since November 7, 2013, the Agency has not, to this point, asked any contractor or covered subcontractor to provide documentation pursuant to the clause. FHFA is now developing procedures that the OMWI Director will follow in determining whether its contractors and covered subcontractors have made good faith efforts to comply with the MWI Clause. The Agency expects that, once it adopts those procedures, it will begin to request the types of documentation described in the MWI Clause from contractors and covered subcontractors.

The purpose of this information collection is to fulfill the requirements of section 342(c)(3)(B) of the Dodd-Frank Act. The collected information will allow FHFA's OMWI Director to determine whether contractors and covered subcontractors have complied with their obligations to make good faith efforts to ensure, to the maximum extent possible consistent with applicable law, the fair inclusion of minorities and women in their respective workforces.

B. Burden Estimate

FHFA estimates that the average annual burden imposed on all respondents by this information collection over the next three years will be 368 hours. All of the assumptions and calculations underlying the total burden estimate are described in detail below.

Because, as explained below, the amount of burden imposed upon a contractor by this information collection will differ depending upon whether the contractor has 50 or more employees, FHFA has based its total burden estimate on two separate sets of calculations—(I) one for contractors with 50 or more employees; and (II) another for contractors with fewer than 50 employees.

FHFA includes the MWI Clause in Agency contracts with a dollar value greater than $150,000. Under the MWI Clause, the FHFA may also request information about covered subcontractors' ownership status, workforce demographics, and workforce inclusion plans. Contractors would request this information from their covered subcontractors, who, because the substance of the MWI Clause would be included in their subcontracts, would have an obligation to keep records and report data as required under the MWI Clause.

FHFA data on the dollar value of contracts awarded by the Agency from the beginning of fiscal year 2013 through the third quarter of fiscal year 2016 shows that 63 contractors were subject to the MWI Clause. FHFA believes that 44 of those contractors have 50 or more employees, while 19 contractors have fewer than 50 employees. FHFA estimates that no more than two subcontracts with a dollar value of $150,000 or more were awarded by Agency contractors during that same time period. Both of those subcontractors have 50 or more employees each. Thus, over the preceding three years, a total of 65 contractors and subcontractors were subject to the MWI Clause—46 of which have 50 or more employees and 19 of which have fewer than 50 employees.

Based on these figures, FHFA estimates that, on average over the next three years, 48 contractors and subcontractors with 50 or more employees and 20 contractors or subcontractors with fewer than 50 employees will be subject to the MWI Clause at any given time. For purposes of these burden estimates, FHFA has assumed that each contractor or subcontractor will provide documentation under the MWI Clause once per year, although it is unlikely that the Agency will actually request documentation from every contractor in every year. (In the interest of brevity, the word “contractor” is intended also to include covered subcontractors in the explanation of the burden estimates that follows.)

I. Documentation Submitted by Contractors With 50 or More Employees

FHFA estimates that the average annual burden on contractors with 50 or more employees will be 48 hours (0 recordkeeping hours + 48 reporting hours).

Because Federal contractors with 50 or more employees are already required to maintain the same types of records that may be requested pursuant to the MWI Clause under regulations implementing Title VII of the Civil Rights Act of 1964 ³ and Executive Order 11246 (E.O. 11246),⁴ this information collection will not impose new recordkeeping burdens on such contractors. FAR 52.222-26, Equal Opportunity, requires that such contractors' contracts and subcontracts include a clause implementing E.O. 11246. OFCCP regulations require each contractor with 50 or more employees and a Federal contract or subcontract of $50,000 or more to maintain records on the race, ethnicity, gender, and EEO-1 job category of each employee.⁵ OFCCP regulations also require each such contractor to: (1) Demonstrate that it has made a good faith effort to remove identified barriers, expand employment opportunities, and produce measureable results; ⁶ and (2) develop and maintain a written program summary describing the policies, practices, and procedures that the contractor uses to ensure that applicants and employees received equal opportunities for employment and advancement.⁷ In lieu of creating and maintaining a separate workforce inclusion plan to submit in satisfaction of the MWI Clause, a contractor with 50 or more employees could submit the written program summary that it is already required to maintain under the OFCCP regulations to demonstrate its good faith efforts to ensure the fair inclusion of minorities and women in its workforce.

³ 42 U.S.C. 2000e, et seq.

⁴ Exec. Order No. 11246, 30 FR 12319 (Sept. 28, 1965).

⁵ See 41 CFR 60-1.7.

⁶ See 41 CFR 60-2.17.

⁷ See 41 CFR 60-2.31.

With respect to reporting burden, FHFA estimates that it will take each contractor approximately one hour to retrieve and submit to the FHFA the documentation specified in the MWI Clause. Thus, the estimate of the annual burden upon contractors with 50 or more employees associated with reporting requirements under this information collection is 48 hours (48 contractors × 1 hour per contractor).

II. Documentation Submitted by Contractors With Fewer Than 50 Employees

FHFA estimates that the average annual burden on contractors with fewer than 50 employees will be 320 hours (300 recordkeeping hours + 20 reporting hours).

OFCCP regulations require contractors with fewer than 50 employees to maintain records on the race, ethnicity, and gender of each employee.⁸ FHFA believes that such contractors also keep EEO-1 job category information in the normal course of business, despite the fact that they are not required by law to do so. However, contractors with fewer than 50 employees may not have the type of written program summary that is required of larger contractors under the OFCCP regulations or any similar document that could be submitted as a workforce inclusion plan under the MWI Clause. Accordingly, such contractors may need to create a workforce inclusion plan to comply with the MWI Clause.

⁸ See 41 CFR 60-3.4.

In order to estimate the burden associated with creating a workforce inclusion plan, FHFA considered the OFCCP's burden estimates for the time needed to develop the written program summaries required under its regulations.⁹ In its OMB Supporting Statement, the OFCCP estimated that a contractor with 1 to 100 employees would take approximately 73 burden hours to create an initial written program summary. While the OFCCP regulations require contractors to perform time-consuming quantitative analyses when developing their written program summaries, such analyses would not be required in connection with the creation of a workforce inclusion plan. For this reason, FHFA believes that a contractor could develop a workforce inclusion plan in about one-third of the time that it would take to develop the written program summary required under the OFCCP regulations.

⁹ See PRA Supporting Statement for the OFCCP Recordkeeping and Requirements-Supply and Service Program, OMB Control No. 1250-0003, at http://www.reginfo.gov/public/do/PRAViewDocument?ref_nbr=201602-1250-001.

FHFA estimates that a contractor with fewer than 50 employees would spend approximately 25 hours creating a workforce inclusion plan for the first time. The Agency estimates that each contractor would then spend approximately 10 hours annually in updating and maintaining its plan. This results in an estimated average annual recordkeeping burden over the next three years on each contractor with fewer than 50 employees of 15 hours [(25 + 10 + 10)/3 years]. Thus, FHFA estimates that the average annual recordkeeping burden on all contractors with fewer than 50 employees over the next three years will be 300 hours (20 contractors × 15 hours per contractor).

FHFA estimates that it will take each contractor approximately one hour to retrieve and submit to FHFA the documentation specified in the MWI Clause. Thus, the estimate of the annual burden upon contractors with fewer than 50 employees associated with reporting requirements under this information collection is 20 hours (20 contractors × 1 hour per contractor).

C. Comments Request

FHFA requests written comments on the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Dated: November 14, 2016.
Kevin Winkler,
Chief Information Officer, Federal Housing Finance Agency.

[FR Doc. 2016-27821 Filed 11-17-16; 8:45 am]

BILLING CODE 8070-01-P